FEDERAL MARITIME COMMISSION

Notice of Request for Additional Information

The Commission gives notice that it has requested that the parties to the below listed agreement provide additional information pursuant to section 6(d) of the Shipping Act of 1984, 46 U.S.C. app. §§ 1701 et seq. The Commission has determined that further information is necessary to evaluate the proposed agreement modification. This action prevents the agreement modification from becoming effective as originally scheduled.

Agreement No.: 011692-003.

Title: Indamex Agreement.

Parties: Contship Containerlines, a division of CP Ships (UK) Limited, CMA CGM, S.A., The Shipping Corporation of India Ltd.

By Order of the Federal Maritime Commission.
Dated: June 20, 2003.
Bryant L. VanBrakle,
Secretary.

[FR Doc. 03-16094 Filed 6-24-03; 8:45 am]

BILLING CODE 6730-01-P